DEPARTMENT OF LABOR

Mine Safety and Health Administration

Petitions for Modification

AGENCY: Mine Safety and Health Administration (MSHA), Labor.

ACTION: Notice of petitions for modification of existing mandatory safety standards.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: Comments on the petitions must be postmarked and received by the Office of Standards, Regulations, and Variances on or before January 4, 2007.

ADDRESSES: You may submit your comments, identified by “docket number” on the subject line, by any of the following methods:

1. E-Mail: Standards-Petitions@dol.gov.

2. Telefax: 1-202-693-9441.

3. Hand-Delivery or Regular Mail: Submit comments to the Mine Safety and Health Administration (MSHA), Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. If you submit your comments by hand-delivery, you are required to check in at the receptionist desk on the 21st floor.

Copies of the petitions and comments will be available during normal business hours at the address listed above.

FOR FURTHER INFORMATION CONTACT: Ria Moore Benedict, Deputy Director, Office of Standards, Regulations, and Variances at 202-693-9443 (Voice), benedict.ria@dol.gov (e-mail), or 202-693-9441 (Telefax), or you can contact Barbara Barron at 202-693-9447 (Voice), barron.barbara@dol.gov (e-mail), or 202-693-9441 (Telefax). [These are not toll-free numbers].

I. Background

Section 101(c) of the Federal Mine Safety and Health Act of 1977 (Mine Act) allows the mine operator or representative of miners to file a petition to modify the application of any mandatory safety standard to a coal or other mine if the Secretary determines that an alternative method of achieving the result of such standard exists which will at all times guarantee no less than the same measure of protection afforded the miners of such mine by such standard, or that the application of such standard to such mine will result in a diminution of safety to the miners in such mine. In addition, the regulations at 30 CFR 44.10 and 44.11 establish the requirements and procedures for filing petitions for modifications.

II. Petitions for Modification

Docket Number: M-2006-076-C.

Petitioner: Drummond Company, Inc., P.O. Box 10246, Birmingham, Alabama.

Mine: Shoal Creek Mine, (MSHA I.D. No. 01-02901), located in Jefferson County, Alabama.

Regulation Affected: 30 CFR 75.507 (Power connection points).

Modification Request: The petitioner requests a modification of the existing standard to permit use of three-phase, alternating current deep-well submersible pumps in boreholes in its Shoal Creek Mine. The petitioner asserts that the proposed alternative method would provide at least the same measure of protection as the existing standard.

Docket Number: M-2006-077-C.

Petitioner: Arch Western Bituminous Group, LLC, 225 N. 5th Street, Suite 900, Grand Junction, Colorado 81510.

Mine: SUFCO Mine, (MSHA I.D. No. 42-00089), located in Sevier County, Utah.

Regulation Affected: 30 CFR 75.1909(c)(2) (Non-permissible diesel-powered equipment; design and performance requirements).

Modification Request: The petitioner requests a modification of the existing standard to permit the use of Getman 220 tractors towing fully loaded Uintah 2m shield trailers that are: (a) Equipped with a supplemental braking system on the tractor; (b) Equipped with a system to automatically lower the load in the trailer onto the roadway providing additional braking action; (c) Operated by personnel that have been trained to recognize appropriate levels of speed for different road conditions and slopes, and all hazards associated with an additional supplemental braking system; and (d) Maintenance personnel will be trained in recognizing all hazards with the additional supplemental braking system. The petitioner states that the miners will be trained in the terms and conditions of the Proposed Decision and Order and within 60 days submit revisions of its Part 48 training plan to the District Manager that includes initial and refresher training to comply with final order. The petitioner asserts that the proposed alternative method would provide at least the same measure of protection as the existing standard.

Docket Number: M-2006-078-C.

Petitioner: San Juan Coal Company, P.O. Box 561, Waterflow, New Mexico 87421.

Mine: San Juan South Mine, (MSHA I.D. No. 29-02170), located in San Juan County, New Mexico.

Regulation Affected: 30 CFR 75.335(a)(2) (Construction of seals).

Modification Request: The petitioner requests a modification of the existing standard to permit the use of an alternative method for construction of seals in the San Juan South Mine. Persons may review a complete description of petitioner's alternative method at the MSHA address listed in this notice. The petitioner asserts that application of the existing standard will result in a diminution of safety to the miners and the proposed alternative method will provide an equal or higher degree of safety as the existing standard.

Docket Number: M-2006-079-C.

Petitioner: San Juan Coal Company, P.O. Box 561, Waterflow, New Mexico 87421.

Mine: San Juan South Mine, (MSHA I.D. No. 29-02170), located in San Juan County, New Mexico.

Regulation Affected: 30 CFR 75.335(a)(1) (Construction of seals).

Modification Request: The petitioner requests a modification of the existing standard to permit the use of an alternative method for construction of seals in the San Juan South Mine. Persons may review a complete description of petitioner's alternative method at the MSHA address listed in this notice. The petitioner asserts that application of the existing standard will result in a diminution of safety to the miners and the proposed alternative method will provide an equal or higher degree of safety as the existing standard.

Dated at Arlington, Virginia this 22nd day of November 2006.
Patricia W. Silvey,
Director, Office of Standards, Regulations, and Variances.

[FR Doc. E6-20569 Filed 12-4-06; 8:45 am]

BILLING CODE 4510-43-P